DEPARTMENT OF TRANSPORTATION

Research and Special Programs Administration

49 CFR Part 175

[Docket No. RSPA-02-11654 (HM-228)]

RIN 2137-AD18

Hazardous Materials: Revision of Requirements for Carriage by Aircraft; Extension of Comment Period

AGENCY: Research and Special Programs Administration (RSPA), Department of Transportation (DOT).

ACTION: Advance notice of proposed rulemaking (ANPRM); extension of comment period.

SUMMARY: On February 26, 2002, RSPA published an advance notice of proposed rulemaking to consider changes to the requirements in the Hazardous Materials Regulations (HMR) on the transportation of hazardous materials by aircraft. These changes would modify or clarify requirements to promote safer transportation practices; promote compliance and enforcement; eliminate unnecessary regulatory requirements; convert certain exemptions into regulations of general applicability; finalize outstanding petitions for rulemaking; facilitate international commerce; and make these requirements easier to understand. In response to requests by members of the regulated community, the comment period for the advanced proposed rule is extended until September 30, 2002.

DATES: Submit comments by September 30, 2002. To the extent possible, we will consider comments received after this date.

ADDRESSES: Comments: You must address comments to the Dockets Management System, U.S. Department of Transportation, Room PL 401, 400 Seventh Street SW., Washington, DC 20590-0001. You should identify the docket number (RSPA-02-11654 (HM-228)) and submit your comments in two copies. If you want to confirm our receipt of your comments, you should include a self-addressed, stamped postcard. You may also e-mail comments by accessing the Dockets Management System web site at http://dms.dot.gov/ and following the instructions for submitting a document electronically. If you prefer, you may fax comments to 202-366-2251 for filing in the docket.

The Dockets Management System is located on the Plaza Level of the Department of Transportation headquarters building (Nassif Building) at the above address. You may review public dockets there between the hours of 9 a.m. to 5 p.m., Monday through Friday, except Federal holidays. You may also review comments on-line at the DOT Dockets Management System Web site at: http://dms.dot.gov.

We are experiencing some delays in mail deliveries as a result of ongoing efforts to ensure that mail is not contaminated with infectious or harmful materials. We encourage you to take advantage of the opportunities provided by the DOT Dockets Management System to submit comments electronically or by fax.

FOR FURTHER INFORMATION CONTACT: Deborah Boothe or Michael Stevens of the Office of Hazardous Materials Standards, (202) 366-8553, Research and Special Programs Administration, U.S. Department of Transportation, 400 Seventh Street SW., Washington DC 20590-0001.

SUPPLEMENTARY INFORMATION:

I. Background

On February 26, 2002, the Research and Special Programs Administration (RSPA) published an advance notice of proposed rulemaking (ANPRM) (67 FR 8769) under Docket RSPA-02-11654 (HM-228) to consider changes to the HMR on transportation of hazardous materials by aircraft. The HMR (49 CFR parts 171-180) govern the transportation of hazardous materials in commerce by all modes of transportation, including aircraft (49 CFR 171.1(a)(1)). Parts 172 and 173 of the HMR include requirements for classification and packaging of hazardous materials, hazard communication, and training of employees who perform functions subject to the requirements in the HMR. Part 175 contains additional requirements applicable to aircraft operators transporting hazardous materials aboard an aircraft, and authorizes passengers and crew members to carry hazardous materials on board an aircraft under certain conditions.

RSPA and the Federal Aviation Administration (FAA) are reviewing part 175 and other sections of the HMR applicable to transportation of hazardous materials by aircraft. This review will increase safety in the air transportation of hazardous materials by:

(1) Modifying or clarifying requirements to promote compliance and enforcement;

(2) Eliminating unnecessary current regulatory requirements;

(3) Adopting current exemptions and outstanding petitions for rulemaking;

(4) Facilitating international commerce; and

(5) Making the regulations easier to understand.

On March 28, 2002, the Air Transport Association (ATA) requested an extension of the comment period (closing date of May 31, 2002) until September 30, 2002. ATA requested the extension because they need additional time to develop comments. ATA stated that the airline industry needs the opportunity to have air carrier working groups meet on several occasions to examine this docket in depth and to answer the 60 questions posed by RSPA and FAA in the rulemaking.

On April 2, 2002, the Air Line Pilots Association (ALPA), requested an extension of the comment period until September 30, 2002, to fully address the rule and prepare comments. ALPA concluded that the areas and topic requests, as well as the large number of specific questions in the rule are far reaching in their scope and require an in-depth response. ALPA commented that the complexity and number of questions posed in the rule makes it necessary to request additional time to develop their comments. RSPA agrees that extending the comment period on this in-depth rulemaking is in the public interest because it will assure a more thorough consideration of the issues by all affected entities. Therefore, we are extending the comment period to September 30, 2002.

Issued in Washington, DC on May 7, 2002, under the authority delegated in 49 CFR part 106.
Robert A. McGuire,
Associate Administrator for Hazardous Materials Safety.

[FR Doc. 02-11902 Filed 5-10-02; 8:45 am]

BILLING CODE 4910-60-P